Department of Transportation

Office of the Secretary

Applications for Certificates of Public Convenience and Necessity and Foreign Air Carrier Permits Filed Under Subpart B (Formerly Subpart Q) During the Week Ending April 30, 2011

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0088.

Date Filed: April 27, 2011.

Due Date for Answers, Conforming Applications, or Motion to Modify Scope: May 18, 2011.

Description: Application of Exec Direct Aviation Services Ltd. requesting an exemption and a foreign air carrier permit to provide charter foreign air transportation of property and mail between Jamaica and the United States via intermediary points, and to points beyond the United States.

Renee V. Wright,
Program Manager, Docket Operations, Federal Register Liaison.

[FR Doc. 2011-13184 Filed 5-26-11; 8:45 am]

BILLING CODE 4910-9X-P